DEPARTMENT OF THE INTERIOR

Bureau of Land Management

[AZ 422-1610-DO-090A-241E]

Notice of Intent To Prepare the San Pedro Riparian National Conservation Area and Tucson Resource Management Plan and Environmental Impact Statement

AGENCY: Bureau of Land Management, Department of the Interior.

ACTION: Notice of intent.

SUMMARY: The Bureau of Land Management (BLM) Field Office, Tucson, Arizona intends to prepare a Resource Management Plan and Environmental Impact Statement (RMP/EIS) for the San Pedro Riparian National Conservation Area and Tucson planning effort. When approved, the RMP will replace those portions of the existing Phoenix Resource Management Plan (1989) and Safford District Resource Management Plan (1992, 1994) within the Tucson Field Office administrative boundary.

DATES: The scoping period commences with the publication of this notice and will continue for at least 60 days. Public meetings will be held approximately late 2005 to early 2006. All public meetings will be announced through the local media, newsletters, and the BLM Web site (http://www.az.blm.gov) at least 15 days prior to the first meeting (the Web site availability is subject to change). Public notice will be provided specifying the date, time, and location that the meetings will occur and include notification of when the scoping period will close and when comments are due. Formal opportunities for public participation will be provided upon publication of the Draft RMP/EIS.

ADDRESSES: Comments may be submitted by any of the following methods:

• Web Site: http://www.az.blm.gov (subject to change).

• E-mail: AZ_TucsonRMP@blm.gov.

• Fax: (520) 258-7238.

• Mail: Tucson Field Office, 12661 East Broadway, Tucson, Arizona 85748-7208.

Documents pertinent to this proposal may be examined at the Tucson Field Office upon request. Public comments, including names and street addresses of respondents, will be available for public review at Bureau of Land Management, 12661 East Broadway, Tucson, Arizona 85748 during regular business hours (7:30 a.m. to 4 p.m.), Monday through Friday, except holidays. Individual respondents may request confidentiality. If you wish to withhold your name or street address from public review or from disclosure under the Freedom of Information Act, you must state this prominently at the beginning of your comments. Such requests will be honored to the extent allowed by law. All submissions from organizations or businesses, and from individuals identifying themselves as representatives or officials of organizations or businesses, will be made available for public inspection in their entirety.

FOR FURTHER INFORMATION CONTACT: Linda Marianito, Planning and Environmental Coordinator, (520) 258-7241, or e-mail Linda_Marianito@blm.gov.

SUPPLEMENTARY INFORMATION: This document provides notice that the BLM Field Office, Tucson, Arizona intends to prepare a Resource Management Plan and Environmental Impact Statement (RMP/EIS) for the San Pedro Riparian National Conservation Area and Tucson planning effort.

The two planning areas, the San Pedro RNCA and the Tucson Field Office, are located in Cochise, Gila, Pima, Pinal, and Santa Cruz Counties, Arizona. This planning activity encompasses approximately 465,000 acres of public land. The plan will fulfill the needs and obligations set forth by the National Environmental Policy Act (NEPA), the Federal Land Policy and Management Act (FLPMA), and BLM management policies. The BLM will work collaboratively with interested parties to identify the management decisions that are best suited to local, regional, and national needs and concerns. Interested governmental entities will be given the opportunity to request Cooperating Agency status in the planning process.

The purpose of the public scoping process is to determine relevant issues that will influence the scope of the environmental analysis and RMP/EIS alternatives. These issues also guide the planning process. Comments on issues and planning criteria can be submitted in writing to the BLM at any public scoping meetings, or they may be mailed to the BLM at the address listed above.

The changing needs and interests of the public necessitate a revision to the existing Safford District and Phoenix RMPs for this area. Preliminary issues and management concerns have been identified by BLM personnel, other agencies, and in meetings with individuals and user groups. The major issue themes that will be addressed in the plan effort include: (1) Protecting and sustaining cultural and natural resources; (2) accommodating public demands for resources and providing for appropriate uses; and, (3) providing direct community services. After gathering public comments on what issues the plan should address, the suggested issues will be placed in one of three categories.

1. Issues to be resolved in the plan.

2. Issues resolved through policy or administrative action.

3. Issues beyond the scope of this plan.

In addition to these major issues, a number of management questions and concerns will be addressed in the plan. The public is encouraged to help identify these questions and concerns during the scoping phase.

An interdisciplinary approach will be used to develop the plan in order to consider the variety of resource issues and concerns identified. Disciplines involved in the planning process will include specialists with expertise in rangeland management, minerals and geology, outdoor recreation, archaeology, paleontology, wildlife and fisheries, threatened and endangered species, wilderness, lands and realty, hydrology, soils, interpretation and education, sociology and economics.

Joanie Losacco,
Acting Arizona State Director.

[FR Doc. 05-17505 Filed 9-1-05; 8:45 am]

BILLING CODE 4310-32-P